DEPARTMENT OF THE TREASURY

Office of the Comptroller of the Currency

FEDERAL RESERVE SYSTEM

FEDERAL DEPOSIT INSURANCE CORPORATION

DEPARTMENT OF THE TREASURY

Office of Thrift Supervision

Agency Information Collection Activities; Submission for OMB Review; Comment Request Concerning the Interagency Bank Merger Act Application

AGENCIES: Office of the Comptroller of the Currency (OCC), Treasury; Board of Governors of the Federal Reserve System (Board); Federal Deposit Insurance Corporation (FDIC); and Office of Thrift Supervision (OTS), Treasury.

ACTION: Notice of information collections to be submitted to OMB for review and approval under the Paperwork Reduction Act of 1995.

SUMMARY: In accordance with requirements of the Paperwork Reduction Act of 1995 (44 U.S.C. 3501 et seq.), the OCC, Board, FDIC, and OTS (Agencies) hereby give notice that they plan to submit to the Office of Management and Budget (OMB) a request for OMB review and approval of the information collection systems described below.

DATES: Comments must be submitted on or before July 18, 2005.

ADDRESSES: Interested parties are invited to submit comments to any or all of the Agencies. All comments, which should refer to the OMB control number, will be shared among the Agencies:

OCC: Comments should be sent to Communications Division, Office of the Comptroller of the Currency, Public Information Room, Mailstop 1-5, Attention: 1557-0014, 250 E Street, SW., Washington, DC 20219. In addition, comments may be sent by fax to (202) 874-4448, or by electronic mail to regs.comments@occ.treas.gov. You can inspect and photocopy the comments at the OCC's Public Information Room, 250 E Street, SW., Washington, DC 20219. You can make an appointment to inspect the comments by calling (202) 874-5043.

Board: You may submit comments, identified by FR 2070; OMB No. 7100-0171, by any of the following methods:

• Agency Web Site: http://www.federalreserve.gov. Follow the instructions for submitting comments on the http://www.federalreserve.gov/generalinfo/foia/ProposedRegs.cfm.

• Federal eRulemaking Portal: http://www.regulations.gov. Follow the instructions for submitting comments. E-mail: regs.comments@federalreserve.gov. Include docket number in the subject line of the message.

• FAX: 202/452-3819 or 202/452-3102.

• Mail: Jennifer J. Johnson, Secretary, Board of Governors of the Federal Reserve System, 20th Street and Constitution Avenue, NW., Washington, DC 20551.

All public comments are available from the Board's Web site at http://www.federalreserve.gov/generalinfo/foia/ProposedRegs.cfm as submitted, except as necessary for technical reasons. Accordingly, your comments will not be edited to remove any identifying or contact information. Public comments may also be viewed electronically or in paper in Room MP-500 of the Board's Martin Building (20th and C Streets, NW.) between 9 a.m. and 5 p.m. on weekdays.

FDIC: All comments should refer to “Bank Merger Application, 3064-0015.” Comments may be submitted by any of the following methods:

• http://www.FDIC.gov/regulations/laws/federal/propose.html.

• E-mail: comments@fdic.gov. Include “Bank Merger Application, 3064-0015.” in the subject line of the message.

• Mail: Gary A. Kuiper (202.942.3824), Counsel, Federal Deposit Insurance Corporation, PA1730-3000, 550 17th Street, NW., Washington, DC 20429.

• Hand Delivery: Comments may be hand-delivered to the guard station at the rear of the 550 17th Street Building (located on F Street), on business days between 7 a.m. and 5 p.m.

OTS: You may submit comments to Information Collection Comments, Chief Counsel's Office, Office of Thrift Supervision, ATTN: 1550-0016, 1700 G Street, NW., Washington, DC 20552; send a facsimile transmission to (202) 906-6518; or send an e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to publicinfo@ots.treas.gov, or send a facsimile transmission to (202) 906-7755.

A copy of the comments should also be submitted to the OMB desk officer for the agencies: Mark Menchik, Office of Information and Regulatory Affairs, Office of Management and Budget, New Executive Office Building, Room 3208, Washington, DC 20503, or by electronic mail to mmenchik@omb.eop.gov.

FOR FURTHER INFORMATION CONTACT: You may request additional information from:

OCC: Mary Gottlieb, OCC Clearance Officer, (202) 874-4824, or Camille Dixon, (202) 874-5090, Legislative and Regulatory Activities Division, Office of the Comptroller of the Currency, 250 E Street, SW., Washington, DC 20219. For subject matter information, you may contact Cheryl Martin at (202) 874-4614, Licensing Activities Division, Office of the Comptroller of the Currency, 250 E Street, SW., Washington, DC 20219.

Board: Michelle Long, Federal Reserve Board Clearance Officer, (202) 452-3829, Division of Research and Statistics, Board of Governors of the Federal Reserve System, 20th and C Streets, NW., Washington, DC 20551. Telecommunications Device for the Deaf (TDD) users may contact Capria Mitchell, (202) 872-4984, Board of Governors of the Federal Reserve System, 20th and C Streets, NW., Washington, DC 20551.

FDIC: Gary A. Kuiper, Counsel, (202) 942-3824, Federal Deposit Insurance Corporation, PA1730-3000, 550 17th Street, NW., Washington, DC 20429.

OTS: Marilyn K. Burton, OTS Clearance Officer, (202) 906-6467; Frances C. Augello, Senior Counsel, Business Transactions Division, (202) 906-6151; or Patricia D. Goings, Regulatory Analyst, Examination Policy, (202) 906-5668, Office of Thrift Supervision, 1700 G Street, NW., Washington, DC 20552.

SUPPLEMENTARY INFORMATION: Proposal to extend for three years, with clarifications, the following currently approved collection of information:

FRB, FDIC, and OTS Report Title: Interagency Bank Merger Act Application.

OCC Title: Comptroller's Licensing Manual (Manual). The specific portions of the Manual covered by this notice are those that pertain to clarifying changes to the instructions.

OMB Numbers:

OCC: 1557-0014.

Board: 7100-0171.

FDIC: 3064-0015.

OTS: 1550-0016.

Form Numbers:

OCC: None.

Board: FR 2070.

FDIC: None.

OTS: 1639.

Affected Public: Individuals or households; businesses or other for-profit.

Type of Review: Review of a currently approved collection.

Estimated Number of Respondents:

OCC: Nonaffiliate—90; Affiliate—106.

Board: Nonaffiliate—62; Affiliate—18.

FDIC: Nonaffiliate—190; Affiliate—172.

OTS: Nonaffiliate—16; Affiliate—0.

Frequency of Response: On occasion.

Estimated Annual Burden Hours per Response:

OCC: Nonaffiliate—30; Affiliate—18.

Board: Nonaffiliate—30; Affiliate—18.

FDIC: Nonaffiliate—30; Affiliate—18.

OTS: Nonaffiliate—30; Affiliate—18.

Estimated Total Annual Burden Hours:

OCC: Nonaffiliate—2,700; Affiliate—1,908. Total: 4,608 burden hours.

Board: Nonaffiliate—1,860; Affiliate—324. Total: 2,184 burden hours.

FDIC: Nonaffiliate—5,700; Affiliate—3,096. Total: 8,796 burden hours.

OTS: Nonaffiliate—480; Affiliate—0. Total: 480 burden hours.

General Description of Report: This information collection is mandatory. 12 U.S.C. 1828(c) (OCC, FDIC, and OTS), and 12 U.S.C. 321, 1828(c), and 4804 (Board). Except for select sensitive items, this information collection is not given confidential treatment. Small businesses, that is, small institutions, are affected.

Abstract: This submission covers a renewal of the Agencies' merger application form, which may include clarified instructions for both affiliated and nonaffiliated institutions. The Agencies need the information to ensure that the proposed transactions are permissible under law and regulation and are consistent with safe and sound banking practices. The Agencies are required, under the Bank Merger Act, to consider financial and managerial resources, future prospects, convenience and needs of the community, community reinvestment, competition, bank secrecy, and anti-money laundering efforts.

Some agencies collect limited supplemental information in certain cases. For example, the OCC and OTS collect information regarding CRA commitments; the Federal Reserve collects information on debt servicing from certain institutions; and the FDIC requires additional information on the competitive impact of proposed mergers.

Current Actions: On March 30, 2005, the Agencies published in the Federal Register (70 FR 16331) a notice on the proposed clarifications to this information collection. The comment period expired on May 31, 2005. The Agencies received no public comments, and each Agency is now submitting its request to OMB for approval of this information collection, as proposed.

The General Information and Instructions section of the merger application form would be modified to clarify the first subsection (Preparation and Use), which explains more clearly the range of merger transactions that may require use of the application. The remaining clarifications include a new paragraph in the Preparation and Use subsection noting that applications must be submitted to the appropriate regulatory agency. Also, a new Compliance subsection would inform applicants of compliance expectations and of the potential that some very large transactions may be subject to the Hart-Scott-Rodino Antitrust Improvement Act. These additional paragraphs, which would provide further practical advice that is generally included in the other recently approved interagency forms, are intended to highlight certain elements of the applications process to prevent confusion or delay, and add no additional burden.

The Federal Reserve approved extending for three years, with minor revisions, its current supplemental form. The two revisions are intended to facilitate the applications review process and provide further practical guidance to the applicant. The first revision recognizes the possible need of biographical or financial information from any individual that, as a consequence of the proposed transaction, becomes a new principal, shareholder, director, or senior executive officer of a state member bank. While all of the Agencies agree that a significant change in management or ownership must be evaluated under the statutory factors of the Bank Merger Act, they have elected to deal with this information need on a case-by-case basis. The second revision eliminates the need for any formal certification from a target institution. This certification is unique to the bank merger application, and is not specifically required by the Bank Merger Act. As the FRB generally waives this requirement if objected to by the target institution and as the applicant is the party to which bank merger authority is granted, the FRB believes that only the applicant need provide the requested certification. The other agencies believe that the target institution should certify to the accuracy of the information and that the institutions will notify the agency if any material changes occur prior to a decision. Also, the target institution certifies that any communications with the agency do not constitute a contract.

Comments: No comments were received in response to the first notice. Comments submitted in response to this second notice will be analyzed to determine the extent to which the instructions for the collection should be modified. All comments will become a matter of public record.

Written comments are invited on:

a. Whether the information collection is necessary for the proper performance of the Agencies' functions, and how the instructions can be clarified so that information gathered has more practical utility;

b. The accuracy of the Agencies' estimates of the burden of the information collection, including the validity of the methodology and assumptions used;

c. Ways to enhance the quality, utility, and clarity of the information to be collected;

d. Ways to minimize the burden of the information collection on respondents, including through the use of automated collection techniques or other forms of information technology; and

e. Estimates of capital or start up costs and costs of operation, maintenance, and purchase of services to provide information.

Dated: June 13, 2005.
Stuart Feldstein,
Assistant Director, Legislative and Regulatory Activities Division, Office of the Comptroller of the Currency.
Dated: June 8, 2005.
By order of the Board of Governors of the Federal Reserve System,
Jennifer J. Johnson,
Secretary of the Board.
Dated at Washington, DC, this 13th day of June, 2005.
Robert E. Feldman,
Executive Secretary, Federal Deposit Insurance Corporation.
Dated: June 10, 2005.
By the Office of Thrift Supervision.
Richard M. Riccobono,
Acting Director.

[FR Doc. 05-11925 Filed 6-15-05; 8:45 am]

BILLING CODE 4810-33-P, 6210-01-P, 6714-01-P, 6720-01-P